DEPARTMENT OF LABOR

Employment and Training Administration

Notice of Availability of Funds and Funding Opportunity Announcement for the American Apprenticeship Initiative

AGENCY: Employment and Training Administration, Labor.

ACTION: Notice of Funding Opportunity Announcement (FOA).

Funding Opportunity Number: FOA-ETA-15-02.

SUMMARY: The Employment and Training Administration (ETA), U.S. Department of Labor, announces the availability of approximately $100 million in grant funds authorized by Section 414(c) of the American Competitiveness and Workforce Improvement Act of 1998 (ACWIA), as amended (codified at 29 U.S.C. 2916a), for the American Apprenticeship Initiative.

These grants are financed by a user fee paid by employers to hire foreign workers into the United States under the H-1B nonimmigrant visa program. This initiative is intended to provide a catalyst in supporting a uniquely American Apprenticeship system that meets our country's particular economic, industry and workforce needs. American Apprenticeships (also referred to as Registered Apprenticeships) are innovative work-based learning and post-secondary earn-and-learn models that meet national standards for registration with the U.S. Department of Labor (or federally recognized State Apprenticeship Agencies). Grants funded by this initiative will support dynamic and sustainable public-private partnerships that:

• Support the expansion of quality and innovative American Apprenticeship programs into high-growth occupation(s) and industry(s), particularly those for which employers are using H-1B visas to hire foreign workers, and the related activities necessary to support such programs (see Appendix A or visit the Foreign Labor Certification Data Center);

• Create career pathways that encompass American Apprenticeship and align with other post-secondary educational offerings;

• Use strategies to significantly increase apprenticeship opportunities for job seekers and workers (particularly for women and other underrepresented populations in apprenticeship, including young men and women of color, people with disabilities; low-skilled populations; and veterans, including transitioning service members); and

• Leverage and develop public policies that increase demand for American Apprenticeship and support sustainability.

The complete FOA and any subsequent FOA amendments in connection with this funding opportunity are described in further detail on ETA's Web site at http://www.doleta.gov/grants/ or on http://www.grants.gov. The Web sites provide application information, eligibility requirements, review and selection procedures, and other program requirements governing this funding opportunity.

DATES: The closing date for receipt of applications under this announcement is April 30, 2015. Applications must be received no later than 4:00:00 p.m. Eastern Time.

FOR FURTHER INFORMATION CONTACT: Jeannette Flowers, 200 Constitution Avenue NW., Room N-4716, Washington, DC 20210; Telephone: 202-693-3322. Sara Gallagher Williams is the Grant Officer for this FOA.

Signed December 12, 2014 in Washington, DC.
Eric D. Luetkenhaus,
Grant Officer/Division Chief, Employment and Training Administration.

[FR Doc. 2014-29682 Filed 12-18-14; 8:45 am]

BILLING CODE 4510-FN-P